DEPARTMENT OF AGRICULTURE

Rural Telephone Bank

Sunshine Act; Meeting

AGENCY: Rural Telephone Bank, USDA.

ACTION: Staff briefing for the board of directors.

TIME AND DATE: 2 p.m., Thursday, November 8, 2001.

PLACE: Conference Room 5030, South Building, Department of Agriculture, 1400 Independence Avenue, SW., Washington, DC.

STATUS: Open.

MATTERS TO BE DISCUSSED: 1. Contract for legal and business advisors to the Privatization Committee.

2. FY 2002 Appropriations.

3. Current telecommunications industry issues.

4. Schedule for Year 2002 board meetings.

5. Administrative issues.

ACTION: Board of directors meeting.

TIME AND DATE: 9 p.m., Friday, November 9, 2001.

PLACE: Conference Room 104-A, Jamie L. Whitten Building, Department of Agriculture, 12th and Jefferson Drive, SW., Washington, DC.

STATUS: Open.

MATTERS TO BE CONSIDERED: The following matters have been placed on the agenda for the Board of Directors meeting:

1. Call to order.

2. Introduction of Ms. Hilda Gay Legg, newly appointed Governor of the Rural Telephone Bank.

3. Action on Minutes of the August 17, 2001, board meeting.

4. Report on loans approved in FY 2001.

5. Report on financial activity for FY 2001.

6. Privatization Committee report.

7. Establish dates and locations for Year 2002 board meetings.

8. Adjournment.

CONTACT PERSON FOR MORE INFORMATION: Roberta D. Purcell, Assistant Governor, Rural Telephone Bank, (202) 720-9554.

Dated: October 26, 2001.
Hilda Gay Legg,
Governor, Rural Telephone Bank.

[FR Doc. 01-27479 Filed 10-29-01; 2:17 pm]

BILLING CODE 3410-15-P